DEPARTMENT OF TRANSPORTATION

Office of the Secretary

Aviation Proceedings, Agreements Filed the Week Ending October 3, 2009

The following Agreements were filed with the Department of Transportation under the Sections 412 and 414 of the Federal Aviation Act, as amended (49 U.S.C. 1382 and 1384) and procedures governing proceedings to enforce these provisions. Answers may be filed within 21 days after the filing of the application.

Docket Number: DOT-OST-2009-0232.

Date Filed: September 28, 2009.

Parties: Members of the International Air Transport Association.

Subject:

TC31 North & Central Pacific TC3 (except Japan)—North America, Caribbean (except between Korea (Rep. of), Malaysia and USA).

Expedited Resolution 002bi (Memo 0496).

Intended Effective Date: November 1, 2009.

Docket Number: DOT-OST-2009-0233.

Date Filed: September 28, 2009.

Parties: Members of the International Air Transport Association.

Subject:

Meeting date/time: CSC Mail Vote (S065) dated 21 August 2009.

Agreement/Minutes: CSC Mil Vote (S065).

Resolution 601.

Intended Effective Date: December 1, 2009.

Docket Number: DOT-OST-2009-0234.

Date Filed: September 29, 2009.

Parties: Members of the International Air Transport Association.

Subject:

TC123 South Atlantic.

Expedited Resolution 002bh (Memo 0454).

Intended Effective Date: November 1, 2009.

Docket Number: DOT-OST-2009-0235.

Date Filed: September 28, 2009.

Parties: Members of the International Air Transport Association.

Subject:

TC31 North & Central Pacific.

TC3—Central America, South America.

Expedited Resolution 002bj.

(Memo 0495).

Intended Effective Date: November 1, 2009.

Docket Number: DOT-OST-2009-0236.

Date Filed: September 29, 2009.

Parties: Members of the International Air Transport Association.

Subject:

TC123 Mid Atlantic.

Expedited Resolution 002bk (Memo 0453).

Intended Effective Date: November 1, 2009.

Docket Number: DOT-OST-2009-0237.

Date Filed: September 29, 2009.

Parties: Members of the International Air Transport Association.

Subject:

TC123 North Atlantic (except between USA and Korea, Rep. of, Malaysia).

Expedited Resolution 002bg.

(Memo 0452).

Intended Effective Date: November 1, 2009.

Docket Number: DOT-OST-2009-0238.

Date Filed: September 29, 2009.

Parties: Members of the International Air Transport Association.

Subject:

TC123 North Atlantic between USA and Korea, Rep. of Malaysia.

Expedited Resolution 002bg.

(Memo 0451).

Intended Effective Date: November 1, 2009.

Barbara J. Hairston,
Supervisory Dockets Officer, Docket Operations, Alternate Federal Register Liaison.

[FR Doc. E9-25317 Filed 10-20-09; 8:45 am]

BILLING CODE 4910-62-P